DEPARTMENT OF TRANSPORTATION

Federal Aviation Administration

14 CFR Part 39

[Docket No. FAA-2006-25423; Directorate Identifier 2006-NM-029-AD; Amendment 39-14845; AD 2006-25-04]

RIN 2120-AA64

Airworthiness Directives; Airbus Model A300 Airplanes

AGENCY: Federal Aviation Administration (FAA), Department of Transportation (DOT).

ACTION: Final rule.

SUMMARY: The FAA is superseding an existing airworthiness directive (AD), which applies to all Airbus Model A300 airplanes. That AD currently requires repetitive inspections for cracking and corrosion in the lower rim area of the rear pressure bulkhead and adjacent areas, repetitive inspections for cracking or corrosion in the service apertures and the upper rim area of the rear pressure bulkhead, and corrective actions if necessary. This new AD removes certain repetitive inspections and reduces the repetitive interval of one inspection. This new AD also requires an inspection for missing or damaged sealant in the area between the outer attachment angle and circumferential joint doubler, and corrective action if necessary. This new AD also requires additional inspections for corrosion of certain areas and repetitive inspections for airplanes on which repairs have been done. This AD results from reports of corrosion and cracking in the various components associated with the rear pressure bulkhead. We are issuing this AD to prevent reduced structural capability of the fuselage and consequent decompression of the airplane.

DATES: This AD becomes effective January 11, 2007.

The Director of the Federal Register approved the incorporation by reference of certain publications listed in the AD as of January 11, 2007.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Thomas Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 am and 5 pm, Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 90-03-08, amendment 39-6481 (55 FR 1799, January 19, 1990). The existing AD applies to all Airbus Model A300 series airplanes. That NPRM was published in the Federal Register on August 1, 2006 (71 FR 43386). That NPRM proposed to continue to require repetitive inspections for cracking and corrosion in the lower rim area of the rear pressure bulkhead and adjacent areas, repetitive inspections for cracking or corrosion in the service apertures and the upper rim area of the rear pressure bulkhead, and corrective actions if necessary. That NPRM also proposed to remove certain repetitive inspections and reduce the repetitive interval of one inspection. That NPRM also proposed to require an inspection for missing or damaged sealant in the area between the outer attachment angle and circumferential joint doubler, and corrective action if necessary. That NPRM also proposed to require additional inspections for corrosion of certain areas and repetitive inspections for airplanes on which repairs have been done.

Comments

We provided the public the opportunity to participate in the development of this AD. We have considered the comments that have been received on the NPRM.

Request To Refer to Latest Issue of the Service Bulletin and Revise Compliance Time

Airbus requests that Service Bulletin A300-53-0218, Revision 03, dated August 3, 2006, be referenced in the NPRM. (Airbus Service Bulletin A300-53-0218, Revision 02, dated May 10, 2005, was referenced as the appropriate source of service information for doing the actions specified in the NPRM.) Airbus also states that the compliance time for doing the repetitive sealant inspection has been revised from 6,000 landings to 8,000 landings to match the compliance times specified in French airworthiness directive F-2005-093 R1, dated August 3, 2005 (which was referenced in the NPRM as the related French airworthiness directive).

We agree with the commenter to refer to Revision 03 of the service bulletin. Revision 03 of the service bulletin contains essentially the same procedures as Revision 02 of the service bulletin for doing the actions specified the NPRM. We have revised the final rule accordingly. We have also added paragraph (o) of the final rule to allow actions done before the effective date of this AD in accordance with Revision 02 of the service bulletin to be acceptable for compliance.

We also agree to revise the compliance time of the repetitive sealant inspection. The French airworthiness directive specifies that the repetitive interval is 8,000 landings for the upper part of rear pressure bulkhead surrounding area. The sealant inspection is done on the aft face of the rear pressure bulkhead. Therefore we have revised paragraph (i) of this final rule accordingly.

Request To Change Incorporation of Certain Information

The Modification and Replacement Parts Association (MARPA) states that, typically, airworthiness directives are based on service information originating with the type certificate holder or its suppliers. MARPA adds that manufacturer service documents are privately authored instruments generally having copyright protection against duplication and distribution. MARPA notes that when a service document is incorporated by reference into a public document, such as an airworthiness directive, it loses its private, protected status and becomes a public document. MARPA adds that if a service document is used as a mandatory element of compliance, it should not simply be referenced, but should be incorporated into the regulatory document; by definition, public laws must be public, which means they cannot rely upon private writings.

MARPA adds that incorporated by reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Replacement and modification parts”) of the Federal Aviation Regulations (14 CFR 21.303). MARPA adds that the concept of brevity is now nearly archaic as documents exist more frequently in electronic format than on paper. Therefore, MARPA asks that the service documents deemed essential to the accomplishment of the NPRM be incorporated by reference into the regulatory instrument and published in the DMS.

We do not agree that documents should be incorporated by reference during the NPRM phase of rulemaking. The Office of the Federal Register (OFR) requires that documents that are necessary to accomplish the requirements of the AD be incorporated by reference during the final rule phase of rulemaking. This final rule incorporates by reference the documents necessary for the accomplishment of the requirements mandated by this AD. Further, we point out that while documents that are incorporated by reference do become public information, they do not lose their copyright protection. For that reason, we advise the public to contact the manufacturer to obtain copies of the referenced service information.

In regard to the commenter's request to post service bulletins on the Department of Transportation's DMS, we are currently in the process of reviewing issues surrounding the posting of service bulletins on the DMS as part of an AD docket. Once we have thoroughly examined all aspects of this issue and have made a final determination, we will consider whether our current practice needs to be revised. No change to the final rule is necessary in response to this comment.

Clarification of Requirements of Paragraph (f)(2) of the Final Rule

We have added the phrase “as applicable” to paragraph (f)(2) of the final rule to clarify that the actions specified in paragraph (f)(2)(i) and (f)(2)(ii) of the final rule are required to be done only for the applicable airplanes identified in paragraphs (f)(2)(i) and (f)(2)(ii) of the final rule. We have also added the word “inclusive” to the range of manufacturer serial numbers specified in paragraphs (f)(2)(i) and (f)(2)(ii) of the final rule in order to clarify the range of the applicable airplanes.

Clarification of Reference in Paragraph (h)(5) of the Final Rule

We made a typographical error in paragraph (h)(5) of the NPRM when we referred to paragraphs (g)(5)(i) and (g)(5)(ii). The correct paragraph reference is (h)(5)(i) and (h)(5)(ii). We have revised paragraph (h)(5) of the final rule accordingly.

Conclusion

We have carefully reviewed the available data, including the comments that have been received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Cost per airplane | Number of U.S.-registered airplanes | Fleet cost
Inspections (required by AD 90-03-08) | 10 | $80 | $800, per inspection cycle | 51 | $40,800, per inspection cycle.
New Inspections (required by this AD) | 10 | 80 | $800, per inspection cycle | 51 | $40,800, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-6481 (55 FR 1799, January 19, 1990) and by adding the following new airworthiness directive (AD):

2006-25-04 Airbus: Amendment 39-14845. Docket No. FAA-2006-25423; Directorate Identifier 2006-NM-029-AD.

Effective Date

(a) This AD becomes effective January 11, 2007.

Affected ADs

(b) This AD supersedes AD 90-03-08.

Applicability

(c) This AD applies to all Airbus Model A300 airplanes, certificated in any category; except the following airplanes:

(1) Model A300 B4-601, B4-603, B4-620, and B4-622 airplanes;

(2) Model A300 B4-605R and B4-622R airplanes;

(3) Model A300 F4-605R and F4-622R airplanes; and

(4) Model A300 C4-605R Variant F airplanes.

Unsafe Condition

(d) This AD results from reports of corrosion and cracking in the various components associated with the rear pressure bulkhead. We are issuing this AD to prevent reduced structural capability of the fuselage and consequent decompression of the airplane.

Compliance

(e) You are responsible for having the actions required by this AD performed within the compliance times specified, unless the actions have already been done.

Restatement of Certain Requirements of Ad 90-03-08 With New Repetitive Intervals

Initial Inspections

(f) Within the time limits specified in paragraph (g) of this AD, conduct the inspections specified in paragraphs (f)(1) through (f)(4) of this AD in accordance with Airbus Service Bulletin A300-53-218, Revision 1, dated July 28, 1989; or Airbus Service Bulletin A300-53-0218, Revision 03, dated August 3, 2006. After the effective date of this AD, Airbus Service Bulletin A300-53-0218, Revision 03, dated August 3, 2006, must be used.

(1) Perform a detailed inspection for corrosion and cracking of the upper rim area of the rear pressure bulkhead from the aft face.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(2) Perform an eddy current inspection for cracks from the outboard side in the applicable areas specified in paragraph (f)(2)(i) or (f)(2)(ii) of this AD, as applicable.

(i) For airplanes, manufacturer's serial number (MSN) 003 through 008 inclusive: Between Stringer (STGR) 25 left hand (LH) and right hand (RH).

(ii) For airplanes, MSN 019 through 305 inclusive: Between STGR 26 LH and RH.

(3) Perform a detailed inspection for cracks and corrosion of the service apertures in the rear pressure bulkhead.

(4) Perform an eddy current inspection for cracks of the apertures for the auxiliary power unit (APU) bleed-air and fuel.

(g) At the applicable time specified in paragraph (g)(1) or (g)(2) of this AD, do the inspections required by paragraph (f) of this AD.

(1) For airplanes having accumulated 26,000 landings or fewer as of February 23, 1990 (the effective date of AD 90-03-08): Perform the initial inspections required by paragraph (f) of this AD, prior to the accumulation of 24,000 landings or within 2,000 landings after February 23, 1990, whichever occurs later.

(2) For airplanes having accumulated more than 26,000 landings as of February 23, 1990: Perform the initial inspections required by paragraph (f) of this AD, within 1,000 landings after February 23, 1990.

Repetitive Inspections

(h) If no cracking or corrosion is found during the inspections required by paragraph (f) of this AD, repeat the inspections specified in paragraphs (h)(1), (h)(2), (h)(3), (h)(4), and (h)(5) of this AD thereafter at the times specified in the paragraphs.

(1) Repeat the detailed inspections of the upper rim area specified in paragraph (f)(1) of this AD thereafter at intervals not to exceed 8,000 landings.

(2) Repeat the eddy current inspection from the outboard side between STGR 25 LH and RH, or STGR 26 LH and RH, as applicable, specified in paragraph (f)(2) of this AD thereafter at intervals not to exceed 8,000 landings.

(3) Repeat the detailed inspection of the service apertures specified in paragraph (f)(3) of this AD thereafter at intervals not to exceed 6,000 landings.

(4) Repeat eddy current inspections of APU fuel apertures specified in paragraph (f)(4) of this AD thereafter at intervals not to exceed 6,000 landings.

(5) At the earlier of the times specified in paragraphs (h)(5)(i) and (h)(5)(ii) of this AD, do the eddy current inspection of the APU bleed-air line service aperture specified in paragraph (f)(4) of this AD. Repeat the inspection thereafter at intervals not to exceed 6,000 landing.

(i) Within 12,000 landings since the last inspection of the APU bleed-air line service aperture specified in paragraph (f)(4) of this AD.

(ii) Within 6,000 landings since the last inspection of the APU bleed-air line service aperture specified in paragraph (f)(4) of this AD or within 2,000 landings after the effective date of this AD, whichever occurs later.

New Requirements of This AD

Inspection for Sealant and Corrective Action

(i) Within the time limits specified in paragraph (j) of this AD: Do a general visual inspection of the area between the outer attachment angle and circumferential joint doubler to determine if sealant is missing or damaged and do all applicable corrective actions, in accordance with the Accomplishment Instructions of Airbus Service Bulletin A300-53-0218, Revision 03, dated August 3, 2006. Do all applicable corrective actions before further flight. Repeat the inspection thereafter at intervals not to exceed 8,000 landings.

Note 2: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(j) At the applicable time specified in paragraph (j)(1) or (j)(2) of this AD, do the inspections required by paragraph (i) of this AD.

(1) For airplanes having accumulated 26,000 landings or fewer as of the effective date of this AD: Perform the initial inspection required by paragraph (i) of this AD prior to the accumulation of 24,000 landings, or within 2,000 landings after the effective date of this AD, whichever occurs later.

(2) For airplanes having accumulated more than 26,000 landings as of the effective date of this AD: Perform the initial inspection required by paragraph (i) of this AD within 1,000 landings after the effective date of this AD.

Additional Inspections

(k) For airplanes on which the inspections specified in paragraphs (f)(2), (f)(4), (h)(2), and (h)(4) of this AD are accomplished after the effective date of this AD: Where this AD requires an eddy current inspection for cracks, do a detailed inspection for corrosion at the same time as the eddy current inspection for cracks, in accordance with the Accomplishment Instructions of Airbus Service Bulletin A300-53-0218, Revision 03, dated August 3, 2006.

(l) For airplanes on which the inspections specified in paragraphs (f)(2) and (h)(2) of this AD are accomplished after the effective date of this AD: If any crack is found during any inspection required by paragraph (f)(2) or (h)(2), before further flight, do an X-ray inspection for cracking of the rim area of the rear pressure bulkhead in the area of STGR 21 LH and RH in accordance with the Accomplishment Instructions of Airbus Service Bulletin A300-53-0218, Revision 03, dated August 3, 2006.

New Repetitive Inspections

(m) For airplanes on which a repair has been done in accordance with Airbus Service Bulletin A300-53-218, Revision 1, dated July 28, 1989; Airbus Service Bulletin A300-53-0218, Revision 02, dated May 10, 2005; or Revision 03, dated August 3, 2006; before the effective date of this AD: At the later of the times specified in paragraphs (m)(1) and (m)(2) of this AD, do the inspections specified in paragraphs (h), (k), and (l) of this AD. Repeat the inspections specified in paragraphs (h), (k), and (l) of this AD thereafter at the applicable times specified in paragraph (h) of this AD.

(1) Within the times specified in paragraph (h) of this AD.

(2) Within 2,000 landings after the effective date of this AD.

Corrective Actions for Cracking and Corrosion and Repetitive Inspections

(n) If cracking or corrosion is found during any inspection required by paragraph (f), (h), (k), (l) or (m) of this AD, repair prior to further flight, in accordance with the Accomplishment Instructions of Airbus Service Bulletin A300-53-218, Revision 1, dated July 28, 1989; or Airbus Service Bulletin A300-53-0218, Revision 03, dated August 3, 2006. As of the effective date of this AD, do the repair in accordance with the Accomplishment Instructions of Airbus Service Bulletin A300-53-0218, Revision 03, dated August 3, 2006; except where the service bulletin specifies to contact the manufacturer to repair certain conditions, this AD requires repairing those conditions using a method approved by either the Manager, International Branch, ANM-116, Transport Airplane Directorate, FAA; or the European Aviation Safety Agency (EASA) (or its delegated agent). As of the effective date of this AD, repeat the inspections specified in paragraphs (h), (k), and (l) of this AD thereafter at the applicable times specified in paragraph (h) of this AD.

Actions Accomplished According to Previous Issue of Service Bulletin

(o) Actions accomplished before the effective date of this AD in accordance with Airbus Service Bulletin A300-53-0218, Revision 02, dated May 10, 2005, are considered acceptable for compliance with the corresponding actions specified in this AD.

Alternative Methods of Compliance (AMOCs)

(p)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 90-03-08 are not approved as AMOCs with this AD.

Related Information

(q) French airworthiness directive F-2005-093 R1, dated August 3, 2005, also addresses the subject of this AD.

Material Incorporated by Reference

(r) You must use Airbus Service Bulletin A300-53-218, Revision 1, dated July 28, 1989; and Airbus Service Bulletin A300-53-0218, Revision 03, dated August 3, 2006; as applicable; to perform the actions that are required by this AD, unless the AD specifies otherwise. Airbus Service Bulletin A300-53-218, Revision 1, dated July 28, 1989, contains the following effective pages:

Page Nos. | Revision level shown on page | Date shown on page
1-4, 7, 8, 16, 19-25 | Revision 1 | July 28, 1989.
5, 6, 9-15, 17, 18 | Original | February 20, 1989.

The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on November 20, 2006.
Ali Bahrami,
Manager, Transport Airplane Directorate, Aircraft Certification Service.

[FR Doc. E6-20616 Filed 12-6-06; 8:45 am]

BILLING CODE 4910-13-P